DEPARTMENT OF LABOR

Office of the Secretary

Submission for OMB Review; Comment Request

February 28, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King on (202) 693-4129 or E-Mail: King-Darrin@dol.gov.

Comments should be sent to Office of Information and Regulatory Affairs, Attn: OMB Desk Officer MSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Mine Safety and Health Administration (MSHA).

Title: Examinations and Tests of Electrical Equipment.

OMB Number: 1219-0067.

Affected Public: Business or other for-profit.

Frequency: On occasion; Weekly; Monthly; and Annually.

Type of Response: Recordkeeping and Reporting.

Number of Respondents: 2,407.

Annual Responses: 1,591,866.

Average Time per Response: Varies from 15 minutes to record examination results to 1 hour to conduct an examination of facilities.

Annual Burden Hours: $1,055,542.

Total Annualized Capital/Startup Costs: $0.

Total Annual Costs (operating/maintaining systems or purchasing services): $0.

Description: 30 CFR 75.512, 75.703-3(d)(11), 77.502, 75.800-1 thru 4, 75.900, and 75.1001-1(b) require coal mine operators to frequently examine, test, and properly maintain all electrical equipment and to keep records of the results of the examinations and tests. These information collection requirements are needed to ensure that electrical equipment is properly maintained to avoid electrical accidents that could seriously injure coal miners.

Type of Review: Extension of a currently approved collection.

Agency: Mine Safety and Health Administration (MSHA).

Title: Applications for Approval of Sanitary Toilet Facilities.

OMB Number: 1219-0101.

Affected Public: Business or other for-profit.

Frequency: On occasion.

Type of Reporting: Recordkeeping and Reporting.

Number of Respondents: 2.

Number of Annual Responses: 2.

Average Time per Response: 8.

Annual Burden Hours: 16.

Total Annualized Capital/Startup Costs: $0.

Total Annual Costs (operating/maintaining systems or purchasing services): $0.

Description: 30 CFR 71.500 and 75.1712-6 requires manufactures of sanitary toilet facilities to obtain MSHA approval of units prior to use at coal mine operations. This approval process is necessary to ensure healthy an environment for miners.

Type of Review: Extension of a currently approved collection.

Agency: Mine Safety and Health Administration (MSHA).

Title: Records of All Certified and Qualified Persons and Man Hoist Operators' Physical Fitness.

OMB Number: 1219-0127.

Affected Public: Business or other for-profit.

Frequency: On occasion and Quarterly.

Type of Response: Recordkeeping and Reporting.

Number of Respondents: 2,365.

Number of Annual Responses: 11,875.

Estimated Time Per Response: 8 hours to develop a training plan and 5 minutes to update the list of certified and qualified man hoist operators.

Total Burden Hours: 20,888.

Total Annualized Capital/Startup Costs: $0.

Total Annual Costs (operating/maintaining systems or purchasing services): $0.

Description: 30 CFR 75-155, 75-159, 75-160, 75-161, 77-105, 77-107, 77-107-1, and 77-106 requires mine operators to maintain a list of persons who are certified and qualified as hoisting engineers, and to provide a training program to train and retain both certified and qualified persons.

Ira L. Mills,
Departmental Clearance Officer.

[FR Doc. 02-5414 Filed 3-6-02; 8:45 am]

BILLING CODE 4510-43-M